DEPARTMENT OF TRANSPORTATION

National Highway Traffic Safety Administration

[Docket No. NHTSA-2002-12730]

Notice of Receipt of Petition for Decision That Nonconforming 2002 Mercedes-Benz Gelaendewagen 5-Door Long Wheel Base Multipurpose Passenger Vehicles Are Eligible for Importation

AGENCY: National Highway Traffic Safety Administration, DOT.

ACTION: Notice of receipt of petition for decision that nonconforming 2002 Mercedes-Benz Gelaendewagen 5-door long wheel base (LWB) multipurpose passenger vehicles (MPVs) are eligible for importation.

SUMMARY: This document announces receipt by the National Highway Traffic Safety Administration (NHTSA) of a petition for a decision that 2002 Mercedes-Benz Gelaendewagen 5-door LWB MPVs that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATE: The closing date for comments on the petition is September 27, 2002.

ADDRESSES: Comments should refer to the docket number and notice number, and be submitted to: Docket Management, Room PL-401, 400 Seventh St., SW., Washington, DC 20590. [Docket hours are from 9 am to 5 pm].

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC. of Baltimore, Maryland (“J.K.”) (Registered Importer 90-006) has petitioned NHTSA to decide whether 2002 Mercedes-Benz Gelaendewagen 5-door LWB MPVs are eligible for importation into the United States. The vehicles which J.K. believes are substantially similar are 2002 Mercedes-Benz Gelaendewagen 5-door LWB MPVs that were manufactured for importation into, and sale in, the United States and certified by their manufacturer as conforming to all applicable Federal motor vehicle safety standards.

The petitioner claims that it carefully compared non-U.S. certified 2002 Mercedes-Benz Gelaendewagen 5-door LWB MPVs to their U.S.-certified counterparts, and found the vehicles to be substantially similar with respect to compliance with most Federal motor vehicle safety standards.

J.K. submitted information with its petition intended to demonstrate that non-U.S. certified 2002 Mercedes-Benz Gelaendewagen 5-door LWB MPVs, as originally manufactured, conform to many Federal motor vehicle safety standards in the same manner as their U.S. certified counterparts, or are capable of being readily altered to conform to those standards.

Specifically, the petitioner claims that non-U.S. certified 2002 Mercedes-Benz Gelaendewagen 5-door LWB MPVs are identical to their U.S. certified counterparts with respect to compliance with Standard Nos. 102 Transmission Shift Lever Sequence * * *, 103 Defrosting and Defogging Systems, 104 Windshield Wiping and Washing Systems, 105 Hydraulic and Electric Brake Systems, 106 Brake Hoses, 113 Hood Latch Systems, 116 Motor Vehicle Brake Fluids, 118 Power Window Systems, 119 New Pneumatic Tires for Vehicles other than Passenger Cars, 124 Accelerator Control Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Retention, 214 Side Impact Protection, 216 Roof Crush Resistance, 219 Windshield Zone Intrusion, 225 Child Restraint Anchorage Systems, and 302 Flammability of Interior Materials.

Petitioner further contends that the vehicles are capable of being readily altered to meet the following standards, in the manner indicated:

Standard No. 101 Controls and Displays: (a) Replacement of the instrument cluster with the U.S.-model component; (b) replacement of the cruise control lever with a U.S.-model component on vehicles that are not already so equipped; (c) replacement and initialization of the system to accept the new instrument cluster; and (d) activation of the warning system.

Standard No. 108 Lamps, Reflective Devices and Associated Equipment: (a) Installation of U.S.-model headlamps and front sidemarker lamps; (b) installation of U.S.-model taillamp assemblies and sidemarker lights; and (c) modification of the high mounted stop lamp if necessary.

Standard No. 111 Rearview Mirror: Inscription of the required warning statement on the passenger side rearview mirror or replacement of that mirror with one on which the required statement is already etched.

Standard No. 114 Theft Protection: Programming the vehicles to activate the key warning and belt warning systems.

Standard No. 120 Tire Selection and Rims for Motor Vehicles other than Passenger Cars: Installation of a tire information placard.

Standard No. 208 Occupant Crash Protection: (a) Reprogramming the seat belt warning systems to activate in the proper manner; (b) inspection of all vehicles upon importation and replacement of the driver's and passenger's side airbags, knee bolsters, control units, sensors, and seat belts with U.S.-model components on vehicles that are not already so equipped. The petitioner stated that the vehicles are equipped at the front and rear outboard seating positions with combination lap and shoulder belts that are automatic, self-tensioning, and released by means of a single red push-button, and with a lap belt in the rear center seating position.

Standard No. 301 Fuel System Integrity: The petitioner states that compliance with the standard will be achieved through modifications, made only with U.S.-model components, to meet Environmental Protection Agency (EPA) onboard diagnostics (OBDII), onboard vapor recovery (ORVR), fuel spit back, and enhanced fuel evaporation tests. According to the petitioner, these systems will control all fuel leaks in the event of an impact.

The petitioner states that a vehicle identification plate must be affixed near the left windshield post and a reference and certification label must be affixed in the area of the left door post to meet the vehicle identification number (VIN) requirements of 49 CFR Part 565.

Interested persons are invited to submit comments on the petition described above. Comments should refer to the docket number and be submitted to: Docket Management, Room PL-401, 400 Seventh St., SW., Washington, DC 20590. (Docket hours are from 9 am to 5 pm). It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: August 23, 2002.
Marilynne Jacobs,
Director, Office of Vehicle Safety Compliance.

[FR Doc. 02-21979 Filed 8-27-02; 8:45 am]

BILLING CODE 4910-59-P